DEPARTMENT OF THE INTERIOR

National Park Service

Notice of Extension of Concession Contracts

AGENCY: National Park Service, Interior.

ACTION: Public notice.

SUMMARY: The National Park Service hereby gives public notice that it has extended the following expiring concession contracts for a period of up to 1 year, or until a new contract is executed, whichever occurs sooner.

DATES: Effective Date: January 1, 2012.

SUPPLEMENTARY INFORMATION: All of the listed concession authorizations will expire by their terms on or before December 31, 2011. Pursuant to 36 CFR 51.23, the National Park Service has determined that the proposed short-term extensions are necessary to avoid interruption of visitor services and has taken all reasonable and appropriate steps to consider alternatives to avoid such interruption.

Conc ID No. | Concessioner name | Park
NACC003-86 | Guest Services, Inc. | National Mall and Memorial Parks.
NACE003-07 | Buzzard Point Boatyard Corporation | National Mall and Memorial Parks.
BOST002-07 | Boston Concessions Group, Inc. | Boston National Historical Park.
CACO003-02 | Town of Truro | Cape Cod National Seashore.
COLO001-02 | Yorktowne Shoppe | Colonial National Historic Site.
GATE001-02 | Jamaica Bay Riding Academy, Inc. | Gateway National Recreation Area.
LAKE017-05 | Black Canyon/Willow Beach River Adventures, LLC | Lake Mead National Recreation Area.
GRCA001-02 | Xanterra Parks and Resorts, LLC | Grand Canyon National Park.
ROMO009-02 | Meeker Park Lodge, Inc. | Rocky Mountain National Park.
ROMO010-02 | Silver Line Stables | Rocky Mountain National Park.
ROMO011-02 | YMCA of the Rockies | Rocky Mountain National Park.
ROMO012-02 | Stanger-Aspen Ltd. | Rocky Mountain National Park.
ROMO013-02 | Ford Investment Company, LLC | Rocky Mountain National Park.
ROMO016-02 | SK Horses, Ltd. | Rocky Mountain National Park.
ROMO017-02 | Sombrero Ranch, Inc. | Rocky Mountain National Park.
ROMO018-02 | Wes House | Rocky Mountain National Park.
ROMO019-02 | Cheley Colorado Camps | Rocky Mountain National Park.
ROMO021-02 | Lloyd C. Lane | Rocky Mountain National Park.
ROMO022-02 | Girl Scouts—Mountain Prairie Council | Rocky Mountain National Park.
ROMO028-02 | SK Horses, Ltd. | Rocky Mountain National Park.
ROMO030-02 | Wild Basin Properties, LLC | Rocky Mountain National Park.
TICA001-06 | Carl Wagner, Betsy Wagner and Shannon Oswald | Timpanogos Cave National Monument.
OZAR015-04 | Big Spring Lodge | Ozark National Scenic Riverways.
JEFF001-05 | Compass Group USA | Jefferson National Expansion Memorial.
BISO003-06 | Bobby Gene and Gretta York | Big South Fork National River Recreation Area.
BUIS001-06 | Southern Seas, Inc. | Buck Island Reef National Monument.
GUIS001-03 | Dudley Food and Beverage, Inc. | Gulf Islands National Seashore.

FOR FURTHER INFORMATION CONTACT: Jo A. Pendry, Chief, Commercial Services Program, National Park Service, 1201 Eye Street NW., 11th Floor, Washington, DC 20005, Telephone (202) 513-7156.

Dated: January 6, 2012.
Jo A. Pendry,
Acting Associate Director, Business Services.

[FR Doc. 2012-3728 Filed 2-16-12; 8:45 am]

BILLING CODE 4310-53-P